COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a product to the Procurement List that will be furnished by a nonprofit agency employing persons who are blind or have other severe disabilities, and deletes products from the Procurement List previously furnished by such agencies.

DATES: Date added to and deleted from the Procurement List: August 19, 2018.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Addition

On 4/20/2018 (83 FR 77), the Committee for Purchase From People Who Are Blind or Severely Disabled published a notice of proposed addition to the Procurement List.

After consideration of the material presented to it concerning capability of a qualified nonprofit agency to provide the product and impact of the addition on the current or most recent contractors, the Committee has determined that the product listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing small entities to furnish the product to the Government.

3. There are no known regulatory alternatives which would accomplish the objectives of the Javits-Wagner-O'Day Act (41 U.S.C. 8501-8506) in connection with the product proposed for addition to the Procurement List.

End of Certification

Accordingly, the following product is added to the Procurement List:

Product

NSN(s)—Product Name(s): 6220-01-266-1651—Spotlight, .52 AMPS 28V BA15S bulb, yellow/white output, HMMWV

Mandatory Source(s) of Supply: Cincinnati Association for the Blind, Cincinnati, OH

Mandatory for: 100% of the requirement of the Department of Defense

Contracting Activity: Defense Logistics Agency Aviation

Distribution: C-List

Deletions

On 6/15/2018 (83 FR 116), the Committee for Purchase From People Who Are Blind or Severely Disabled published a notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

7520-01-496-5479—Planner, Hanging Kit, EA

7520-01-584-0877—Planner, Hanging Kits, 20 Kits

Mandatory Source(s) of Supply: Chicago Lighthouse Industries, Chicago, IL

Contracting Activity: General Services Administration, Philadelphia, PA

NSN(s)—Product Name(s):

7530-01-600-7616—Monthly Desk Planner, Dated 2018, Wire Bound, Non-refillable, Black Cover

7530-01-600-7593—Weekly Desk Planner, Dated 2018, Wire Bound, Non-refillable, Black Cover

7530-01-600-7583—Daily Desk Planner, Dated 2018, Wire bound, Non-refillable, Black Cover

7530-01-600-7605—Weekly Planner Book, Dated 2018, 5″ x 8″, Black

7510-01-600-7568—Monthly Wall Calendar, Dated 2018, Jan-Dec, 8-1/2″ x 11″

7510-01-600-7629—Wall Calendar, Dated 2018, Wire Bound w/Hanger, 12″ x 17″

7510-01-600-7563—Wall Calendar, Dated 2018, Wire Bound w/hanger, 15-1/2″ x 22″

Mandatory Source(s) of Supply: Chicago Lighthouse Industries, Chicago, IL

Contracting Activity: General Services Administration, New York, NY

NSN(s)—Product Name(s):

7510-01-NIB-0613—Holder, Key and Credit Card, Custom Print, Black Leather, 2-1/4″ x 4″

Mandatory Source(s) of Supply: Travis Association for the Blind, Austin, TX

Contracting Activity: General Services Administration, New York, NY

Michael R. Jurkowski,
Business Management Specialist, Business Operations.

[FR Doc. 2018-15570 Filed 7-19-18; 8:45 am]

BILLING CODE 6353-01-P